DEPARTMENT OF LABOR

Employment and Training Administration

[TA-W-65,570]

Pentair Water Pool and Spa, Auburn, CA; Notice of Termination of Investigation

Pursuant to Section 221 of the Trade Act of 1974, as amended, an investigation was initiated on March 12, 2009, in response to a worker petition filed on behalf of workers at Pentair Water Pool and Spa, Auburn, California.

The petitioners have requested that the petition be withdrawn. Consequently, the investigation has been terminated.

Signed at Washington, DC, this 14th day of April 2009.
Linda G. Poole,
Certifying Officer, Division of Trade Adjustment Assistance.

[FR Doc. E9-10878 Filed 5-8-09; 8:45 am]

BILLING CODE 4510-FN-P